DEPARTMENT OF HEALTH AND HUMAN SERVICES

Health Resources and Services Administration

Agency Information Collection Activities: Proposed Collection: Public Comment Request; Information Collection Request Title: Advanced Nursing Education Program Specific Form OMB No. 0915-0375—Revision

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than October 25, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Advanced Nursing Education (ANE) Program Specific Form OMB No. 0915-0375—Revision.

Abstract: HRSA provides advanced nursing education grants to educational institutions to increase the supply, distribution, quality of, and access to advanced education nurses through the ANE Programs. The ANE Programs are authorized by Section 811 of the Public Health Service Act (42 U.S.C. 296j), as amended. This clearance request is for continued approval of the information collection OMB No. 0915-0375 with revisions.

This revision request includes a title change from the Advanced Nursing Education Workforce (ANEW) Program-Specific Data Collection Forms to ANE Program Specific Form. This revision also merges forms used by the ANEW Program and adds several other new forms from the ANE Programs, including the Advanced Nursing Education Nurse Practitioner Residency (ANE-NPR) Program, Advanced Nursing Education Nurse Practitioner Residency Integration Program (ANE-NPRIP), Nurse Anesthetist Traineeship (NAT) Program, and Advanced Nursing Education Sexual Assault Nurse Examiners (ANE-SANE) Program. The revision of the ANE Program Specific Form incorporates elements from these four programs (ANE-NPR, ANE-NPRIP, NAT, and ANE-SANE) into the ANE Program Specific Form.

A 60-day notice published in the Federal Register on July, 13 2021 vol. 86, No. 131; pp. 36756-57. There were no public comments.

Need and Proposed Use of the Information: Section 811 of the Public Health Service Act provides the Secretary of HHS with the authority to award grants to and enter into contracts with eligible entities to meet the costs of—(1) projects that support the enhancement of advanced nursing education and practice; and (2) traineeships for individuals in advanced nursing education programs. Under this section, HRSA makes awards to entities who train and support nurses characterized as “advanced education nurses.” In awarding such grants, funding preference is given to applicants with projects that will substantially benefit rural or underserved populations, or help meet public health nursing needs in state or local health departments; special consideration is given to an eligible entity that agrees to extend the award to train advanced education nurses who will practice in designated health professional shortage areas.

The ANE Program Specific Form will allow HRSA to effectively target funding and measure the impact of the ANE Programs in meeting the legislative intent and program goals of supporting the enhancement of advanced nursing education, creating opportunities for individuals in advanced nursing education programs, and increasing the number of advanced practice nurses in rural and underserved areas. The proposed updates to this information collection will assist HRSA in: Streamlining the application submission process across programs; enabling an efficient award determination process; and facilitating HRSA's ability to monitor the use of funds and analyze program outcomes. Additionally, collecting this data assists HRSA in carrying out the most impactful program and ensuring resources are used responsibly.

More specifically, the changes include the following:

• Form name change from ANEW to ANE Program Specific Form.

• Additional instructions for applicants are provided in each funding opportunity.

• Modifications to both Table #1 and Table #2:

○ Revision to instructions to incorporate elements for added programs. Instructions about completion of each table are included within the electronic application materials.

○ Table titles are rephrased for clarity.

○ New “Additional Specialty” column is created to yield a flexible data collection option.

• Table #1 rows are numbered for clarity and more rows are added to:

○ Capture auto-tabulation, and

○ Reformat/separate Statutory Funding Preference data from Special Consideration data.

• Table #2 has:

○ “Students” reworded to “participants/trainees;”

○ One column labeled, “Budget Year,” to identify the project budget year;

○ One column to create a space for entering the sum for each row;

○ Rows to more clearly indicate the budget year for up to 5 years; and,

○ One final row to create a space for entering the total for each column.

• Frequency of data collection: Data is collected (through the two tables) once during the application period for each funding announcement.

• Information determines:

○ If applicants meet the funding preference or special consideration for funding, and

○ Projected target and baseline numbers of trainees/participants to be supported throughout the project period.

Likely Respondents: Likely respondents will be current ANE Programs awardees and new applicants to the ANE Programs.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name (includes the ANE program specific tables and attachments) | Number of respondents | Number of responses per respondent | Total responses | Average burden per response (in hours) | Total burden hours
ANEW | 236 | 1 | 236 | 7 | 1,652
NAT | 115 | 1 | 115 | 7 | 805
ANE-NPR | 101 | 1 | 101 | 7 | 707
ANE-NPRIP | 15 | 1 | 15 | 7 | 105
ANE-SANE | 54 | 1 | 54 | 7 | 378
Total | 521 |  | 521 |  | 3,647

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-20653 Filed 9-23-21; 8:45 am]

BILLING CODE 4165-15-P